DEPARTMENT OF THE INTERIOR

Bureau of Indian Affairs

Notice of Intent To Prepare an Environmental Impact Statement for the Proposed Greenville Rancheria's Trust Acquisition and Casino Project, Tehama County, CA

AGENCY: Bureau of Indian Affairs, Interior.

ACTION: Notice.

SUMMARY: This notice advises the public that the Bureau of Indian Affairs (BIA) as lead agency, with the National Indian Gaming Commission as a cooperating agency, intends to gather information necessary for preparing an Environmental Impact Statement (EIS) for a proposed 333.66± acre trust acquisition and casino development project to be located in unincorporated Tehama County, California. The purpose of the proposed action is to help provide for the economic development of the Greenville Rancheria (Tribe). This notice also announces a public scoping meeting to identify potential issues, alternatives and content for inclusion in the EIS.

DATES: Comments on the scope and implementation of this proposal must arrive by September 23, 2005.

The public scoping meeting will be held September 7, 2005, from 6 p.m. to 9 p.m., or until the last public comment is received.

ADDRESSES: You may mail or hand carry written comments to Clay Gregory, Regional Director, Pacific Region, Bureau of Indian Affairs, 2800 Cottage Way, Sacramento, California 95825. Alternatively, comments may be submitted at the public scoping meeting.

The public scoping meeting will be held at the Red Bluff Senior Community Center, 1500 South Jackson Street, Red Bluff, California 96080.

FOR FURTHER INFORMATION CONTACT: Mr. John Rydzik, (916) 978-6042.

SUPPLEMENTARY INFORMATION: The Tribe proposes that 333.66± acres of land be taken into trust and that a casino, parking, and other facilities supporting the casino be constructed on the trust acquisition property. The 333.66± acre project site incorporates 4 parcels of land located within unincorporated Tehama County, California, 5 miles south of the city of Red Bluff and approximately 10 miles north of Corning. The site is bounded on the east by Interstate 5, to the northwest by the Corning Canal, to the south by Flores Avenue, and north and southwest by agricultural land.

The foreseeable components of the proposed action are a casino resort and associated facilities. The casino would be approximately 120,000 square feet and would include a main gaming floor, restaurant, buffet, gift shop, two cage areas, restrooms, security, surveillance, and back-of-the-house areas. Supporting infrastructure would include on-site wastewater treatment and disposal facilities, an onsite water system including a well, pump station, and storage tank, a stormwater detention basin, on site parking and a paved access road.

The proposed action and a reasonable range of alternatives, including a no-action alternative, will be analyzed in the EIS. Other possible alternatives currently under consideration are an alternate-use alternative and an off-site alternative located in Plumas County, California. Areas of environmental concern to be addressed in the EIS include land use, geology and soils, water resources, agricultural resources, biological resources, cultural resources, mineral resources, paleontological resources, traffic and transportation, noise, air quality, public health/environmental hazards, public services and utilities, hazardous waste and materials, socio-economics, environmental justice, and visual resources/aesthetics. The range of issues and alternatives addressed may be expanded based on comments received during the scoping process.

Public Comment Availability

Comments, including names and addresses of respondents, will be available for public review at the mailing address shown in the ADDRESSES section during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of Interior Manual (516 DM 1-6), and is in the exercise of authority delegated to the Principal Deputy Assistant Secretary—Indian Affairs by 209 DM 8.1.

Dated: August 3, 2005.
Debbie L. Clark,
Acting Principal Deputy Assistant Secretary—Indian Affairs.

[FR Doc. 05-16599 Filed 8-19-05; 8:45 am]

BILLING CODE 4310-W7-P